DEPARTMENT OF AGRICULTURE

Grain Inspection, Packers and Stockyards Administration

[06-TX-C]

Opportunity To Comment on the Applicants for the Texas Area

AGENCY: Grain Inspection, Packers and Stockyards Administration, USDA.

ACTION: Notice.

SUMMARY: GIPSA requests comments on the applicants for designation to provide official services in unassigned counties in Texas.

DATES: Comments must be postmarked or electronically dated on or before June 12, 2006.

ADDRESSES: Comments must be submitted in writing to USDA, GIPSA, John R. Sharpe, Division Director, Compliance Division, STOP 3604, Room 1647-S, 1400 Independence Avenue, SW., Washington, DC 20250-3604. Fax 202-690-2755; e-mail John.R.Sharpe@usda.gov. All comments received will be made available for public inspection at the above address located at 1400 Independence Avenue, SW., during regular business hours.

FOR FURTHER INFORMATION CONTACT: John R.Sharpe at 202-720-8262, e-mail John.R.Sharpe@usda.gov.

SUPPLEMENTARY INFORMATION: This Action has been reviewed and determined not to be a rule or regulation as defined in Executive Order 12866 and Departmental Regulation 1512-1; therefore, the Executive Order and Departmental Regulation do not apply to this action.

In the March 13, 2006, Federal Register (71 FR 12675), GIPSA asked persons interested in providing official services in Clay, Montague, Cooke, Grayson, Fannin, Lamar, Red River, Young, Stephen, and Eastland Counties in Texas to submit an application for designation.

There were two applicants for the Texas area: Enid Grain Inspection Co., Inc. (Enid) and Intercontinental Grain Inspections Inc. (Intercontinental); both currently designated official agencies. Enid applied for designation to provide official services in Clay, Montague, Cooke, and Grayson Counties. Intercontinental applied for all of the counties announced in the March 13, 2005, Federal Register. GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. 71 et seq.).

James E. Link,
Administrator, Grain Inspection, Packers and Stockyards Administration.

[FR Doc. E6-7249 Filed 5-11-06; 8:45 am]

BILLING CODE 3410-EN-P